DEPARTMENT OF LABOR

Employment and Training Administration

[TA-W-50,252]

General Mills, Bakeries and Food Service, Hillsdale, MI; Notice of Termination of Investigation

Pursuant to section 221 of the Trade Act of 1974, as amended, an investigation was initiated on December 4, 2002 in response to a worker petition filed by a company official and Bakery, Confectionery, Tobacco Workers & Grain Millers Union on behalf of workers at General Mills, Bakeries and Food Services, Hillsdale, Michigan.

The petitioners have requested that the petition be withdrawn. Consequently, the investigation has been terminated.

Signed at Washington, DC this 11th day of February 2003.
Richard Church,
Certifying Officer, Division of Trade Adjustment Assistance.

[FR Doc. 03-5553 Filed 3-7-03; 8:45 am]

BILLING CODE 4510-30-P